DEPARTMENT OF TRANSPORTATION

Federal Aviation Administration

Public Notice of Airport Improvement Program Property Release; Spokane International Airport, Spokane, Washington

AGENCY: Federal Aviation Administration (FAA), Transportation DOT.

ACTION: Notice of request to release airport improvement program property.

SUMMARY: Notice is being given that the FAA is considering a request from the City and County of Spokane, Washington to waive the Airport Improvement Program property requirements for approximately 108 acres of airport property located at Spokane International Airport, Spokane, Washington.

DATES: Comments are due within 30 days of the date of the publication of this notice in the Federal Register. Emailed comments can be provided to Ms. Mandi M. Lesauis, Program Specialist, Seattle Airports District Office, mandi.lesauis@faa.gov.

FOR FURTHER INFORMATION CONTACT: Mandi M. Lesauis, Program Specialist, Seattle Airports District Office, mandi.lesauis@faa.gov, (206) 231-4140.

SUPPLEMENTARY INFORMATION: The subject properties are located in the northeast section of the airport. This release will allow the City and County of Spokane to sell 108 acres of Parcel 1 to developers for storage warehouses, transportation/logistics warehouses with minor office spaces for light industrial or commercial business. There will be proceeds generated from the proposed release of this property for capital improvements at the airport. The City and County of Spokane, Washington will receive not less than fair market value for the property and the revenue generated from the sale will be used for airport purposes. It has been determined through study that the subject partial parcel will not be needed for aeronautical purposes.

Authority: Title 49.U.S.C. Section 47153(c).

Issued in Des Moines, Washington, on August 8, 2022.
Warren D. Ferrell,
Manager, Seattle Airports District Office.

[FR Doc. 2022-17326 Filed 8-11-22; 8:45 am]

BILLING CODE 4910-13-P